INTERNATIONAL TRADE COMMISSION

[Investigation No. 337-TA-1430]

Certain Urine Splash Guards and Components Thereof; Notice of the Commission Determination Not To Review an Initial Determination Terminating a Respondent Based on Settlement and an Initial Determination Amending the Notice of Investigation and Terminating a Respondent Based on Settlement

AGENCY: U.S. International Trade Commission.

ACTION: Notice.

SUMMARY: Notice is hereby given that the U.S. International Trade Commission (“Commission”) has determined not to review an initial determination (“ID”) (Order No. 10) of the presiding administrative law judge (“ALJ”) granting Complainant's unopposed motion to terminate the investigation as to one respondent based on settlement, and an ID (Order No. 11) amending the Notice of Investigation and granting Complainant's unopposed motion to terminate the above-captioned investigation as to another respondent based on settlement.

FOR FURTHER INFORMATION CONTACT: Jonathan Link, Esq., Office of the General Counsel, U.S. International Trade Commission, 500 E Street SW, Washington, DC 20436, telephone (202) 205-3103. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: The Commission instituted this investigation on January 13, 2025, based on a complaint filed by For Kids By Parents, Inc. (“Complainant”) of Potomac, Maryland. 90 FR 2745 (Jan. 13, 2025). The complaint alleges violations of section 337 of the Tariff Act of 1930, as amended, 19 U.S.C. 1337, in the importation into the United States, the sale for importation, or the sale within the United States after importation of certain urine splash guards and components thereof by reason of infringement of one or more of claims 1 and 2 of U.S. Patent No. 7,870,619 and claims 1-3 of U.S. Patent No. 11,812,901. Id. The Commission's notice of investigation named as respondents Shenzhenshi Dijiaaotuman Trading Co., Ltd. (d/b/a Tigaman) of Guangdong, China (“Tigaman”); Junyaxincaiwuzixunyouxiangongsi (d/b/a Junyxin) of Fujian, China (“Junyxin”); Hezeyunjiangjixieshebeiyouxiangongsi (d/b/a Maomaohouse) of Guangdon, China; Shenzhenshiranbodianziyouxiangongsi (d/b/a Eurbus) of Longgang, China (“Eurbus”); Hefeiweifengshidaishidaimaoyiyouxiangongsi (d/b/a HealthSTEC) of Anhui, China; ShenzhenShi Julonghui Trading Co., Ltd. (d/b/a Edermurs) of Guangdong, China; Shenzhenshi Lishian Keji Youxiangongsi (d/b/a Lishian) of Guangdong, China; Shenzhen Paisi Industrial Co., Ltd. (d/b/a Sunyoka123) of Guangdong, China (“Sunyoka123”); Guangzhou Lesenyu Dianzishangwu Youxiangongsi (d/b/a Le Sengyu) of Guangdong, China; and Shenzhen Sibaite Industrial Co., Ltd. (d/b/a SeLucky) of Guangdong, China (“SeLucky”). Id. The Office of Unfair Import Investigations (“OUII”) was also named as a party in this investigation. Id.

On April 1, 2025, the Commission determined not to review three initial determinations (Order Nos. 5, 6, and 7) granting Complainant's unopposed motions to terminate the investigation as to respondents Eurbus, Sunyoka123, and SeLucky based on settlement. See Order Nos. 5, 6, and 7 (March 11, 2025), unreviewed by Comm'n Notice (April 1, 2025).

On February 6, 2025, Complainant filed an unopposed motion to terminate Tigaman from the investigation based on settlement. On February 18, 2025, OUII filed a response in support of Complainant's motion. On March 11, 2025, the ALJ issued Order No. 8, requesting clarification regarding slight differences in Tigaman's name and address in the Complaint and Notice of Investigation and the settlement agreement attached to the motion to terminate. Complainant filed a response with additional information on March 18, 2025. OUII filed a response again supporting termination on March 27, 2025.

On March 18, 2025, Complainant filed an unopposed motion to terminate Junyxin from the investigation based on settlement. On March 27, 2025, OUII filed a response in support of Complainant's motion.

On April 1, 2025, the ALJ issued the subject IDs (Order Nos. 10 and 11), granting Complainant's unopposed motions to terminate the investigation as to Tigaman and Junyxin. Order No. 11 also amends the Notice of Investigation to correctly identify the address of Respondent Junyxin as: Room 205, No. 183 Dongshanli, Dong'an Jimei District, Xiamen City, China. The subject IDs find that the motions meet the requirements of Commission Rules 210.21(b) and 210.50(b)(2) (19 CFR 210.21(b), 210.50(b)(2)), and that there are no extraordinary circumstances that would prevent the requested partial termination of the investigation. The subject IDs also grant Complainant's unopposed request to limit service of he unredacted versions of the settlement agreements. No petitions for review of the IDs were filed.

The Commission has determined not to review the subject IDs. The Notice of Investigation is amended to correctly identify the address of Respondent Junyxin as: Room 205, No. 183 Dongshanli, Dong'an Jimei District, Xiamen City, China. Tigaman and Junyxin are terminated from the investigation.

The Commission vote for this determination took place on April 21, 2025.

The authority for the Commission's determination is contained in section 337 of the Tariff Act of 1930, as amended (19 U.S.C. 1337), and in Part 210 of the Commission's Rules of Practice and Procedure (19 CFR part 210).

By order of the Commission.
Issued: April 22, 2025.
Lisa Barton,
Secretary to the Commission.

[FR Doc. 2025-07232 Filed 4-25-25; 8:45 am]

BILLING CODE 7020-02-P